DEPARTMENT OF THE INTERIOR

Bureau of Land Management

[LLOR9320000-L10200000.PH0000; HAG11-0053]

Call for Nominations for Advisory Groups

AGENCY: Bureau of Land Management, Interior.

ACTION: Notice of Resource Advisory Council Call for Nominations.

SUMMARY: The Secretary of the Interior requests public nominations for persons to serve on Oregon/Washington Bureau of Land Management (BLM) Resource Advisory Councils, Committees, and Boards. Citizens who serve on these groups provide advice and recommendations to the BLM on land use planning and management of the National System of Public Lands within their geographic areas, the selection and prioritization of projects funded under Title II of the Secure Rural Schools and Community Self-Determination Act, and management options for specific National Landscape Conservation System (NLCS) sites. The BLM will accept public nominations for 30 days after the publication of this notice.

DATES: All nominations must be received no later than February 14, 2011.

ADDRESSES: For the addresses of councils seeking nominations, please refer to the section titled SUPPLEMENTARY INFORMATION.

FOR FURTHER INFORMATION CONTACT: Pam Robbins, Public Affairs Specialist, Bureau of Land Management, Oregon State Office, Division of Communications, 333 SW. First Avenue, Portland, Oregon 97204, (503) 808-6306.

SUPPLEMENTARY INFORMATION: The Federal Land Policy and Management Act (FLPMA) (43 U.S.C. 1739) directs the Secretary of the Interior to involve the public in planning and issues related to management of lands administered by the BLM. Section 309 of FLPMA directs the Secretary to establish citizen-based advisory councils that are consistent with the Federal Advisory Committee Act (FACA). As required by FACA, council membership must be balanced and representative of the various interests concerned with the management of public lands. The rules governing advisory committees are found at 43 CFR subpart 1784.

Regional Resource Advisory Councils (RAC) seek nominations in three categories:

Category One—Holders of Federal grazing permits, representatives of organizations associated with energy and mineral development, timber industry, transportation or rights-of-way, developed outdoor recreation, off-highway vehicle use, and commercial recreation;

Category Two—Representatives of nationally or regionally recognized environmental organizations; archaeological and historic organizations, dispersed recreation activities, and wild horse and burro organizations, and;

Category Three—Representatives of state, county, or local elected office; representatives and employees of a state agency responsible for management of natural resources; representatives of Indian tribes within or adjacent to the area for which the council is organized; representatives of academia who are employed in natural sciences; and the public-at-large.

The National Historic Oregon Trail Interpretive Center Advisory Board seeks representatives of: Federal, county, and local governments; trail advocacy groups; the local business community; and the public-at-large.

The Steens Mountain Advisory Council seeks a member of the Burns Paiute Tribe.

County Payment RACs seek nominations for these three categories:

Category One—Representatives of organized labor or non-timber forest product harvester groups; commercial or developed outdoor recreation activities or off-highway vehicle users; energy and mineral development interests or commercial or recreational fishing interests; commercial timber industry; or holders of Federal grazing permits or other land permits, or nonindustrial private forest land owners within the area for which the committee is organized.

Category Two—Representatives of nationally, regionally or locally recognized environmental organizations; dispersed recreational activities; archaeological and historical interests; or nationally or regionally recognized wild horse and burro interest groups, wildlife or hunting organizations, or watershed associations.

Category Three—Persons who hold State elected office (or a designee); hold county or local elected office; represent American Indian tribes within or adjacent to the committee area; represent the affected public-at-large; or area school officials or teachers. Individuals may nominate themselves or others. Nominees must be residents of the state or region in which the council has jurisdiction. The BLM will evaluate nominees based on their education, training, experience, and knowledge of the geographical area of the council. Nominees should demonstrate a commitment to collaborative resource decision-making. A Presidential Memorandum prohibits individuals who are currently Federally-registered lobbyists from being appointed to any FACA or non-FACA boards, committees, or councils. All nominations must include: (1) Letters of reference from the stakeholder interest area to be represented; (2) a completed background information nomination form; and (3) other information that addresses the nominee's qualifications.

The BLM Oregon/Washington State Office will issue press releases providing additional information for submitting nominations, with specifics about the number and categories of member positions available for each council. Nominations should be sent to the appropriate BLM offices listed below:

Regional RACs Oregon/Washington

Eastern Washington RAC; John Day-Snake RAC; Southeast Oregon RAC

Pam Robbins, Oregon State Office, BLM, 333 SW. First Avenue, Portland, Oregon 97204, (503) 808-6306.

County Payment RACs

Coos Bay District: Glenn Harkleroad, 1300 Airport Lane, North Bend, Oregon 97459, (541) 756-0100;

Eugene District: Pat Johnston, 3106 Pierce Parkway, Suite E, Springfield, Oregon 97477, (541) 683-6600;

Medford District: Jim Whittington, 3040 Biddle Road, Medford, Oregon 97504, (541) 618-2200;

Roseburg District: Jake Winn, 777 NW Garden Valley Blvd., Roseburg, Oregon 97470, (541) 440-4930; and

Salem District: Richard Hatfield, 1717 Fabry Road SE., Salem, Oregon 97306, (503) 375-5657.

Steens Mountain Advisory Council

Christi West, BLM Burns District, 28910 Highway 20 West, Hines, Oregon 97738, (541) 573-4400.

National Historic Oregon Trail Interpretive Center Advisory Board

Pam Robbins, Oregon State Office, BLM, 333 SW. First Avenue, Portland, Oregon 97204, (503) 808-6306.

Certification Statement: I hereby certify that the BLM Resource Advisory Councils are necessary and in the public interest in connection with the Secretary's responsibilities to manage the lands, resources, and facilities administered by the BLM.

Cathy L. Harris,
Associate Deputy State Director, Oregon/Washington.

[FR Doc. 2011-607 Filed 1-12-11; 8:45 am]

BILLING CODE 4310-33-P